SECURITIES AND EXCHANGE COMMISSION

[Release No. 34-72495; File No. SR-CBOE-2014-026]

Self-Regulatory Organizations; Chicago Board Options Exchange, Incorporated; Notice of Withdrawal of Proposed Rule Change To Amend Rule 24.19

June 27, 2014.

On March 21, 2014, the Chicago Board Options Exchange, Incorporated (the “Exchange” or “CBOE”) filed with the Securities and Exchange Commission (the “Commission”), pursuant to Section 19(b)(1) of the Securities Exchange Act of 1934 (the “Act”),¹ and Rule 19b-4 thereunder,² a proposed rule change to amend CBOE Rule 24.19 to revise several provisions governing the trading of Multi-Class Spread Orders. The proposed rule change was published for comment in the Federal Register on April 10, 2014.³ On April 10, 2014, the Exchange submitted Amendment No. 1 to the proposed rule change. On May 15, 2014 and June 3, 2014, CBOE extended the time period in which the Commission must either approve the proposed rule change, disapprove the proposed rule change, or institute proceedings to determine whether to disapprove the proposed rule change to June 13, 2014, and to June 30, 2014, respectively. The Commission has not received any comments on the proposed rule change. On June 25, 2014, CBOE withdrew the proposed rule change (SR-CBOE-2014-026).

¹ 15 U.S.C. 78s(b)(1).

² 17 CFR 240.19b-4.

³ See Securities Exchange Act Release No. 71872 (April 4, 2014), 79 FR 19940.

For the Commission, by the Division of Trading and Markets, pursuant to delegated authority.⁴
⁴ 17 CFR 200.30-3(a)(31).
Kevin M. O'Neill,
Deputy Secretary.

[FR Doc. 2014-15609 Filed 7-2-14; 8:45 am]

BILLING CODE 8011-01-P